DEPARTMENT OF ENERGY

Federal Energy Regulatory Commission

[Docket No. ER05-795-001]

ISO New England Inc. and New England Power Pool; Notice of Technical Conference

July 22, 2005.

The Federal Energy Regulatory Commission hereby gives notice that members of its staff will hold a technical conference with ISO New England Inc. (ISO-NE) to discuss certain aspects of the “Joint Request for Clarification, or in the Alternative, Rehearing; Request for Expedited Action; and Request for Deferral of Filing Requirements of ISO New England Inc. and New England Power Pool” (Joint Request) filed on June 23, 2005 in Docket No. ER05-795-001.

The conference will take place on Thursday, July 28, 2005 from 8:30 a.m. to 9:30 a.m. (e.d.t.), in Room 3M-3 of the Federal Energy Regulatory Commission, 888 First St., NE., Washington DC 20426.

Specifically, the purpose of the conference is to discuss the mechanism for selecting generating units to provide Regulation Service as proposed in an April 7 filing, and how Regulation Clearing Prices would be established. The conference will also discuss any possible inconsistencies in the description of the mechanism as found in (i) the proposed Tariff revisions (especially section III.1.11.5 and section III.3.2.2), (ii) the Joint Request,¹ and (iii) the proposed revisions to the ISO-NE Manual for Market Operations, Manual M-11 (Revision XX—ASM Phase I), section 3 (especially section 3.2.5).²

¹ The Joint Request (at 6-7) describes a 7-step process for determining the Resources that would be selected to provide Regulation Service and for determining the Regulation Clearing Price.

² The ISO-NE Manual for Market Operations has not been filed with the Commission. It may be found on the ISO-NE Web site at http://www.iso-ne.com/rules_proceds/isone_mnls/M-11_Market%20Operations_(Revision%20XX)_10-01-05.doc.

During the conference, ISO-NE should be prepared to explain the proposed steps that would be taken to select generators to provide Regulation Service and to determine the Regulation Clearing Price. To aid in this discussion, Staff requests ISO-NE to use the hypothetical example described in the Appendix to this Notice to illustrate how Resources would be selected to provide Regulation Service and how the Regulation Clearing Price would be determined. ISO-NE should also be prepared to explain whether, under its proposal, the Resources selected to provide Regulation Service would be those whose total costs of providing Regulation Service are the lowest. In addition, ISO-NE should be prepared to discuss the rationale for recalculating updated Regulation Rank Prices for generating units with Regulation Offer Prices that are less than the initial Regulation Clearing Price, as described in section 3.2.5(2) of the proposed revision to Manual M-11.

The conference is open for the public to attend. In addition, a telephone line will be provided for interested parties to call in and participate in the conference. Below is the call-in information for the conference call:

Date: July 28, 2005.

Time: 8:30 a.m. to 9:30 a.m. e.d.t.

Toll-free Number: 877-546-1566.

Passcode: 65271.

Leader's Name: Mr. David Mead.

Parties interested in submitting comments following the conference must do so no later than August 11, 2005.

FERC conferences are accessible under section 508 of the Rehabilitation Act of 1973. For accessibility accommodations please send an e-mail to accessibility@ferc.gov or call toll free 1-866-208-3372 (voice) or 202-208-1659 (TTY), or send a FAX to 202-208-2106 with the required accommodations.

For more information about the conference, please contact: David Mead at (202) 502-8028 or david.mead@ferc.gov.

Magalie R. Salas,
Secretary.

Appendix

The following is a hypothetical example to be used during the technical conference to help illustrate how Resources would be selected to provide Regulation Service and how the Regulation Clearing Price would be determined.

Assume that 150 MW of Regulation Capability must be procured to provide Regulation Service for a particular hour. Assume that 6 different Resources, A through F, have submitted offers to provide Regulation Service. Each of the 6 Resources has an Automatic Response Rate of 10 MW per minute, and thus, a Regulation Capability of 50 MW (i.e., 10 MW per minute times 5 minutes). Although each Resource has submitted a different Energy Bid (shown in the table below), the Energy Bid of each Resource is constant over its entire operating range. The day-ahead and real-time LMP throughout New England during the hour in question is $70/MWh. None of the bids from the Resources has any start-up or minimum load costs. The Capability-to-Service Ratio used in calculating the Regulation Service Credit for each Resource is 0.1. (ISO-NE should comment during the conference whether it is reasonable to assume that the Capability-to-Service Ratio used in selecting Resources would be the same for all Resources.)

Assume that the 6 Resources submit the following in their bids to supply Regulation Service and Energy:

Information in Bids to Supply Regulation Service and Energy and Derived Opportunity Cost, in $/MWh
Resource | Regulation offer | Energy bid | Derived opportunity cost
A | $10 | $85 | $15
B | 20 | 75 | 5
C | 40 | 70 | 0
D | 45 | 70 | 0
E | 50 | 40 | 30
F | 60 | 25 | 45

ISO-NE should be prepared to explain during the conference how its proposal would determine which of these Resources would be selected to provide Regulation Service, and how the Regulation Clearing Price would be determined. If additional information is also needed to determine which Resources are selected and what Regulation Clearing Price is calculated, ISO-NE should identify the information at the conference and add reasonable hypothetical values for this information to the above example.

[FR Doc. E5-4054 Filed 7-28-05; 8:45 am]

BILLING CODE 6717-01-P